Title 3—

The President

Proclamation 7718 of October 9, 2003

Leif Erikson Day, 2003

By the President of the United States of America

A Proclamation

Traveling across the Atlantic as the first Nordic to lead an expedition to North America, Leif Erikson showed great courage in the face of danger. His actions marked the beginning of a longstanding exchange of people, ideas, and innovations between North America and the Nordic nations of Denmark, Finland, Iceland, Norway, and Sweden. As the United States celebrates Leif Erikson Day, we honor his historic voyage and give thanks for the many contributions of Nordic Americans to our Nation, and of our Nordic allies.

Since Leif Erikson's voyage, millions of immigrants from the Nordic countries have come to America. As teachers, lawyers, judges, doctors, authors, athletes, artists, scientists, and business people, and in many other occupations, Nordic Americans have contributed to America's cultural, political, and economic strength. America has also benefited from the diplomatic relationships we have long enjoyed with the Nordic nations.

To honor Leif Erikson, Nordic-American heritage, and America's continued relationship with Nordic countries, the Congress, by joint resolution (Public Law 88-566) approved on September 2, 1964, has authorized and requested the President to proclaim October 9 of each year as “Leif Erikson Day.”

NOW, THEREFORE, I, GEORGE W. BUSH, President of the United States of America, do hereby proclaim October 9, 2003, as Leif Erikson Day. I call upon all Americans to observe this day with appropriate ceremonies, activities, and programs to honor our rich Nordic-American heritage.

IN WITNESS WHEREOF, I have hereunto set my hand this ninth day of October, in the year of our Lord two thousand three, and of the Independence of the United States of America the two hundred and twenty-eighth.

B

[FR Doc. 03-26205

Filed 10-14-03; 8:45 am]

Billing code 3195-01-P